DEPARTMENT OF ENERGY

Federal Energy Regulatory Commission

[Docket No. OR10-7-000]

Enbridge Energy, Limited Partnership; Notice of Filing of Supplement to Facilities Surcharge Settlement

February 25, 2010.

Take notice that on February 19, 2010, Enbridge Energy, Limited Partnership (Enbridge Energy), with the support of the Canadian Association of Petroleum Producers (CAPP), submitted a Supplement to the Facilities Surcharge Settlement approved by the Commission on June 30, 2004, in Docket No. OR04-2-000.¹

¹ Enbridge Energy, Limited Partnership, 107 FERC ¶ 61,336 (2004).

Any person desiring to intervene and comment on this Supplement to the Settlement should submit an original and 14 copies of its comments and motion to intervene with the Federal Energy Regulatory Commission, 888 First Street, NE., Washington, DC 20426, no later than March 8, 2010. Reply comments will be due no later than March 15, 2010.

The Commission encourages electronic submission of comments and interventions in lieu of paper using the “eFiling” link at http://www.ferc.gov. The filings in this proceeding is accessible on-line at http://www.ferc.gov, using the “eLibrary” link and is available for review in the Commission's Public Reference Room in Washington, DC. There is an “eSubcription” link on the Web site that enables subscribers to receive e-mail notification when a document is added to a subscribed docket(s). For assistance with any FERC Online service, please e-mail FERCOnlineSupport@ferc.gov, or call (866) 208-3676 (toll free). For TTY, call (202) 502-8659.

Kimberly D. Bose,
Secretary.

[FR Doc. 2010-4612 Filed 3-4-10; 8:45 am]

BILLING CODE 6717-01-P